DEPARTMENT OF ENERGY

Federal Energy Regulatory Commission

Notice of Application for Amendment of License and Soliciting Comments, Motions to Intervene, and Protests

February 14, 2003.

Take notice that the following application has been filed with the Commission and is available for public inspection:

a. Application Type: Amendment to license.

b. Project No: 3033-019.

c. Date Filed: December 17, 2002.

d. Applicant: Arkansas Electric Cooperative Corporation.

e. Name of Project: Dam No. 2 Hydropower Project.

f. Location: Desha and Arkansas Counties, Arkansas.

g. Filed Pursuant to: 18 CFR 4.200.

h. Applicant Contact: S. Maurice Robinson, Vice President, Engineering, Construction, and Operations Division, Arkansas Electric Cooperative Corporation, One Cooperative Way P.O. Box 194208 Little Rock, Arkansas 72219-4208, (501) 570-2497.

i. FERC Contact: Any questions on this notice should be addressed to Mr. Robert Shaffer at (202) 502-8944, or e-mail address: robert.shaffer@ferc.gov.

j. Deadline for filing comments and or motions: March 14, 2003.

All documents (original and eight copies) should be filed with: Magalie R. Salas, Secretary, Federal Energy Regulatory Commission, 888 First Street, NE., Washington DC 20426. Please include the project number (P-3033-019) on any comments or motions filed.

k. Description of Request: The licensee proposes to change the route of the project's transmission line, as well as its length and voltage. The license authorized an 11.5 mile-long, 230-kV line extending from the powerhouse in a southwesterly direction to the Arkansas Power and Light Company (now Entergy Arkansas, Inc. (EAI)) grid at Dumas, Arkansas. Instead, a 15.5 mile-long, 115-kV line was constructed along a different route, wandering in a southwesterly direction from the powerhouse to EAI's grid at Dumas, Arkansas. Some points along the constructed transmission line route are approximately 3 miles apart from the authorized route.

l. Locations of the Application: A copy of the application is available for inspection and reproduction at the Commission's Public Reference Room, located at 888 First Street, NE., Room 2A, Washington, DC 20426, or by calling (202) 502-8371. This filing may also be viewed on the Commission's Web site at http://www.ferc.gov using the “FERRIS” link. Enter the docket number excluding the last three digits in the docket number field to access the document. For assistance, call 1-866-208-3676 or e-mail FERCOnlineSupport@ferc.gov . For TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of rules of practice and procedure, 18 CFR 385.210, 385.211, 385.214. In determining the appropriate action to take, the Commission will consider all protests or other comments filed, but only those who file a motion to intervene in accordance with the Commission's rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments: Federal, State, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See 18 CFR 385.2001(a)(1)(iii) and the instructions on the Commission's Web site at http://www.ferc.gov under the “e-Filing” link.

Magalie R. Salas,
Secretary.

[FR Doc. 03-4210 Filed 2-21-03; 8:45 am]

BILLING CODE 6717-01-P